Title 3—

The President

Proclamation 8037 of July 25, 2006

Anniversary of the Americans With Disabilities Act, 2006

By the President of the United States of America

A Proclamation

The Americans with Disabilities Act (ADA) has helped fulfill the promise of America for millions of individuals living with disabilities. The anniversary of this landmark legislation is an important opportunity to celebrate our progress over the last 16 years and the many contributions individuals with disabilities make to our country.

When President George H. W. Bush signed the ADA into law on July 26, 1990, he called this legislation a “dramatic renewal not only for those with disabilities but for all of us, because along with the precious privilege of being an American comes a sacred duty to ensure that every other American's rights are also guaranteed.” The ADA's far-reaching reforms have played a significant role in enhancing the quality of life for millions of Americans who must overcome considerable challenges each day in order to participate fully in all aspects of American life.

My Administration continues to build on the progress of the ADA through the New Freedom Initiative. We have established an online connection to the Federal Government's disability-related information and resources at DisabilityInfo.gov, and the job training and placement services of the “Ticket to Work” program and One-Stop Career Centers are promoting greater employment opportunities. We are also expanding educational opportunities for children with disabilities, providing them with the tools they need for success in their classrooms, homes, and communities. In addition, we are fostering technological advancement and encouraging increased distribution of assistive technology to help people with disabilities live and work with greater independence. My Administration will continue its efforts to remove barriers confronting Americans with disabilities and their families so that every individual can realize their full potential.

On this anniversary of the ADA, we underscore our commitment to ensuring that the fundamental promises of our democracy are accessible to all our citizens. As we strive to be a more caring and hopeful society, let us continue to show the character of America in our compassion for one another.

NOW, THEREFORE, I, GEORGE W. BUSH, President of the United States of America, by virtue of the authority vested in me by the Constitution and laws of the United States, do hereby proclaim July 26, 2006, as a day in celebration of the 16th Anniversary of the Americans with Disabilities Act. I call on all Americans to celebrate the many contributions of individuals with disabilities as we work towards fulfilling the promise of the ADA to give all our citizens the opportunity to live with dignity, work productively, and achieve their dreams.

IN WITNESS WHEREOF, I have hereunto set my hand this twenty-fifth day of July, in the year of our Lord two thousand six, and of the Independence of the United States of America the two hundred and thirty-first.

B

[FR Doc. 06-6594

Filed 7-27-06; 8:45 am]

Billing code 3195-01-P